DEPARTMENT OF TRANSPORTATION

Federal Aviation Administration

Public Notice for Waiver of Aeronautical Land-Use Assurance

AGENCY: Federal Aviation Administration (FAA), DOT.

ACTION: Notice of intent of waiver with respect to land; Bismarck Municipal Airport, Bismarck, North Dakota.

SUMMARY: The FAA is considering a proposal to change 4.78 acres of airport land from aeronautical use to non-aeronautical use and to authorize the sale of airport property located at Bismarck Municipal Airport, Bismarck, North Dakota. The property's location for Parcel A is a triangular parcel of 3.68 acres located west of the street intersection of Airway Avenue and Rifle Range Drive; and the Parcel B is a triangular parcel of 1.1 acres located north of the street intersection of Airway Avenue and Rifle Range Drive within the City of Bismarck, ND. The property's existing aeronautical use is grasslands located outside the approach and departure surfaces of Runway 21 at the Bismarck Municipal Airport, Bismarck, ND. Currently, ownership of the property provides for protection of FAR Part 77 surfaces and compatible land use which would continue to be protected with deed restrictions required in the transfer of land ownership. The proposed non-aeronautical use of the property will likely be zoned industrial however, the exact usage has not been determined. The property is no longer needed for aeronautical use.

DATES: Comments must be received on or before August 12, 2013.

ADDRESSES: Documents are available for review by appointment at the FAA Airports District Office, Mark J. Holzer, Program Manager, 2301 University Drive- Building 23B, Bismarck ND 58504-7595 Telephone: 701-323-7380/Fax: 701-323-7399 and Bismarck Municipal Airport, PO Box 991, Bismarck, ND 58502.

Written comments on the Sponsor's request must be delivered or mailed to: Mark J. Holzer, Program Manager, Federal Aviation Administration, Airports District Office, 2301 University Drive- Building 23B, Bismarck, ND 58504-7595, Telephone Number: 701-323-7380/FAX Number: 701-323-7399.

FOR FURTHER INFORMATION CONTACT: Mark J. Holzer, Program Manager, Federal Aviation Administration, Airports District Office, 2301 University Drive-Building 23B, Bismarck, ND 58504-7595. Telephone Number: 701-323-7380/FAX Number: 701-323-7399.

SUPPLEMENTARY INFORMATION: In accordance with section 47107(h) of Title 49, United States Code, this notice is required to be published in the Federal Register 30 days before modifying the land-use assurance that requires the property to be used for an aeronautical purpose.

The property was acquired by the Bismarck Municipal Airport under Federal ADP grant 8-38-0003-04. The proposed non-aeronautical use of the property will likely be zoned industrial, however, the exact usage has not been determined until sold to a private party. The property is currently hayed. The release of the property and use of the property will be in conformity with local and state laws. The Bismarck Municipal Airport will receive Fair Market Value for the land.

Approval does not constitute a commitment by the FAA to financially assist in the disposal of the subject airport property nor a determination of eligibility for grant-in-aid funding from the FAA. The disposition of proceeds from the sale of the airport property will be in accordance with FAA's Policy and Procedures Concerning the Use of Airport Revenue, published in the Federal Register on February 16, 1999 (64 FR 7696).

Property Description: within Section 12, Township 138 North, Range 80 West in Burleigh County of the State of North Dakota for; Tract A description as part of Lot Two (2), Block One (1), of Bismarck Airport Addition, Burleigh County, North Dakota, described as follows: beginning at the most northerly corner of Lot Two (2), Block One (1), of said Bismarck Airport Addition; thence South 00 degrees 34 minutes 26 seconds West, along the westerly boundary of said Lot Two (2), a distance of 810.8 feet; thence North 39 degrees 12 minutes 28 seconds East to the east boundary line of said Lot Two (2), a distance of 633.16 feet; thence North 50 degrees 46 minutes 12 seconds West, along the easterly boundary of said Lot 2 (2), a distance of 506.22 feet to the point of beginning. The above-described tract contains 3.68 acres, more or less.

Tract B description is Lot One (1) Block Twelve (12) of the Bismarck Airport Addition. The above-described tract contains 1.1 acres, more or less.

Issued in Bismarck Airports District Office, ND, on June 17, 2013.
Laurie J. Suttmeier,
Manager, Bismarck Airports District Office FAA, Great Lakes Region.

[FR Doc. 2013-16661 Filed 7-10-13; 8:45 am]

BILLING CODE 4910-13-P